DEPARTMENT OF COMMERCE

National Oceanic and Atmospheric Administration

50 CFR Part 635

[Docket No. 030613152-3235-02; I.D. 051903B]

RIN 0648-AQ38

Atlantic Highly Migratory Species; Atlantic Bluefin Tuna Quota Specification, General Category Effort Controls, and Permit Revisions; Correction

AGENCY: National Marine Fisheries Service (NMFS), National Oceanic and Atmospheric Administration (NOAA), Commerce.

ACTION: Final rule; correction

SUMMARY: NMFS published a final rule in the Federal Register on October 2, 2003, concerning the final initial 2003 fishing year specifications for the Atlantic bluefin tuna (BFT) fishery to set BFT quotas for each of the established fishing categories, to set General category effort controls, to allocate 25 metric tons (mt) of BFT to account for incidental catch of BFT by pelagic longline vessels “in the vicinity of the management boundary area,” to define the management boundary area and applicable restrictions, and to revise permit requirements to allow General category vessels to participate in registered recreational Highly Migratory Species (HMS) fishing tournaments and to allow permit applicants a 10-calendar day period to make permit category changes to correct potential errors. The document contained an error in the DATES section.

FOR FURTHER INFORMATION CONTACT: Brad McHale at (978) 281-9260.

SUPPLEMENTARY INFORMATION:

Correction

In the Federal Register of October 2, 2003, in FR Vol. 68, No. 191, page 56783, in the third column, correct the DATES caption to read:

DATES: This rule is effective November 3, 2003. The final initial quota specifications and General category effort controls are effective November 3, 2003, through May 31, 2004.

Dated: October 10, 2003.
Rebecca J. Lent,
Deputy Assistant Administrator for Regulatory Programs, National Marine Fisheries Service.

[FR Doc. 03-26201 Filed 10-15-03; 8:45 am]

BILLING CODE 3510-22-S